DEPARTMENT OF THE TREASURY

Submission for OMB Review; Comment Request

December 2, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 10, 2005, to be assured of consideration.

Internal Revenue Service

OMB Number: 1545-1476.

Regulation Project Number: INTL-3-95 Final.

Type of Review: Extension.

Title: Source of Income from Sales of Inventory and Natural Resources Produced in One Jurisdiction and Sold in Another Jurisdiction.

Description: The information requested is necessary for the Service to audit taxpayers' returns to ensure taxpayers have properly determined the source of income from sales of inventory produced in one country and sold in another.

Respondents: Business or other for-profit.

Estimated Number of Respondents: 425.

Estimated Burden Hours Respondent: 2 hours, 36 minutes.

Frequency of response: Annually.

Estimated Total Reporting Burden: 1,125 hours.

OMB Number: 1545-1907.

Notice Numbers: Notices 2004-74, 2004-75 and 2004-76.

Type of Review: Extension.

Title: Notice 2004-74: Relief from Certain LIHC (low-income housing credit) Requirements in the State of Alabama Due to Hurricane Ivan; Notice 2004-75: Relief from Certain LIHC Requirements in the State of Ohio Due to Post-Hurricane Severe Storms and Flooding; and Notice 2004-76: Relief from Certain LIHC Requirements in the State of Florida Due to Hurricanes Charley, Frances, Ivan and Jeanne.

Description: The Internal Revenue Service is suspending certain income limitation requirements under section 42 of the Internal Revenue Code for certain low-income housing credit properties in Alabama as a result of Hurricane Ivan, in Florida as a result of Hurricanes Charley, Frances, Ivan and Jeanne, and Ohio as a result of post-hurricane severe storms and flooding from the remnants of Hurricanes Ivan and Frances.

Respondents: Business or other for-profit, Individuals or households, Not-for-profit institutions.

Estimated Number of Recordkeepers: 7,750.

Estimated Burden Hours Recordkeeper: 15 minutes.

Estimated Total Reporting Burden: 1,938 hours.

Clearance Officer: R. Joseph Durbala, (202) 622-3634, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-27138 Filed 12-9-04; 8:45 am]

BILLING CODE 4830-01-P